DEPARTMENT OF AGRICULTURE

Forest Service

Wrangell-Petersburg Resource Advisory Committee

AGENCY: Forest Service, USDA.

ACTION: Notice of meeting.

SUMMARY: The Wrangell-Petersburg Resource Advisory Committee (RAC) will meet from 12:30 p.m. until 5 p.m. on Friday, February 21, and from 8 a.m. until 2 p.m., Saturday, February 22, 2003, in Petersburg, Alaska. The purpose of this meeting is to review, discuss and potentially recommend for funding proposals received pursuant to Title II, Public Law 106-393, H.R. 2389, the Secure Rural schools and community Self-Determination Act of 2000, also called the “Payments to States” Act. Public testimony regarding the proposals will also be taken.

DATES: The meeting will be held commencing at 1 p.m., Friday, February 21 through 2 p.m., Saturday, February 22, 2003.

ADDRESSES: The meeting will be held at the Holy Cross House, Petersburg Lutheran Church, 401 Fram Street, Petersburg, Alaska.

FOR FURTHER INFORMATION CONTACT: Chip Weber, Wrangell District Ranger, PO Box 51, Wrangell, AK 99929, phone (907) 874-2323, e-mail cweber@fs.fed.us, or Patty Grantham, Petersburg, District Ranger, PO Box 1328, Petersburg, AK 99833, phone (907) 772-3871, e-mail pagrantham@fs.fed.us. For further information on RAC history, operations, and the application process, a website is available at http://www.fs.fed.us/r10/payments.

SUPPLEMENTARY INFORMATION: This will be the third meeting of the committee, and will focus on the review and discussion of proposals received by the RAC for funding under Title II of the Payments to States legislation (Pub. L. 106-393). Deadline for proposals during this round of funding consideration is February 10, 2003. No proposals will be recommended for funding at their initial reading, however, proposals that were submitted and reviewed at the January meeting may be recommended for funding at this meeting. The meeting is open to the public. Public input opportunity will be provided and individuals will have the opportunity to address the committee at that time.

Dated: January 22, 2003.
Thomas Puchlerz,
Forest Supervisor.

[FR Doc. 03-2002 Filed 1-28-03; 8:45 am]

BILLING CODE 3410-11-M